DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2007, there were two applications approved. This notice also includes information on two applications, one approved in January 2007 and the other approved in March 2007, inadvertently left off the January 2007 and March 2007 notices, respectively. Additionally, 15 approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR part 158) and Part 158 of the Federal Aviation Regulations (14 CFR part 1580. This notice is published pursuant to paragraph d of § 158.29.

PFC Applications Approved

Public Agency: Shenandoah Valley Regional Airport Commission Weyers Cave, Virginia.

Application Number: 07-02-C-00-SHD.

Application Type: Impose and use a PFC.

PFC Level: $4.50.

Total PFC Revenue Approved in This Decision: $24,811.

Earliest Charge Effective Date: June 1, 2007.

Estimated Charge Expiration Date: January 1, 2018.

Class of Air Carriers Not Required To Collect PFCs: Air taxi/commercial operators filing FAA Form 1800-31.

Determination: Approved. Based on information submitted in the public agency's application, the FAA has determined that the proposed class accounts for less than 1 percent of the total annual enplanements at Shenandoah Valley Regional Airport.

Brief Description of Projects Approved for Collection and Use:

Develop PFC program and PFC application.

Rehabilitate runway 5/23—design.

Construct snow removal equipment building—design.

Rehabilitate runway 5/23—construction

Rehabilitate taxiway A—design and construction.

Construct snow removal equipment building—construction.

Acquire snow removal equipment.

Rehabilitate runway 5/23 lighting—design.

Rehabilitate runway 5/23 lighting—construction.

Decision Date: January 22, 2007.

FOR FURTHER INFORMATION CONTACT: Luis Loarte, Washington Airports District Office. (703) 661-1365.

Public Agency: Monroe County Board of County Commissions, Key West, Florida.

Application Number: 07-12-C-00-EYW.

Application Type: Impose and use a PFC.

PFC Level: $4.50.

Total PFC Revenue Approved in This Decision: $111,216.

Earliest Charge Effective Date: December 1, 2037.

Estimated Charge Expiration Date: March 1, 2038.

Class of Air Carriers Not Required To Collect PFCs: None.

Brief Description of Projects Approved for Collection at Key West International Airport (EYW) and Use of PFC Revenue at EYW:

Acquire aircraft rescue and firefighting vehicle (1,500 gallon).

Aircraft rescue and firefighting building emergency power.

Master plan update, airport utilities.

Brief Description of Projects Approved for Collection at EYW and Use of PFC Revenue at the Florida Keys Marathon Airport (MTH):

Replace perimeter fence.

Construct airfield emergency generator and electrical vault.

Master plan update, airport utilities.

Brief Description of Disapproved Project (Proposed Collection at EYW and Use at MTH): Environmental assessment.

Determination: The FAA determined that this project was not yet justified.

Decision Date: March 23, 2007.

FOR FURTHER INFORMATION CONTACT. Susan Moore, Orlando Airports District Office, (407) 812-6331, extension 120.

Public Agency: City of Aberdeen, South Dakota.

Application Number: 07-02-C-00-ABR.

Application Type: Impose and use a PFC.

PFC Level: $4.50.

Total PFC Revenue Approved in This Decision: $533,588.

Earliest Charge Effective Date: June 1, 2007.

Estimated Charge Expiration Date: March 1, 2010.

Class of Air Carriers Not Required to Collect PFC's: None.

Brief Description of Projects Approved for Collection and Use:

Reconstruction of runway 17/35

Taxiway D lighting

Snow removal equipment

Passenger loading bridge

Terminal building

Runway safety areas

Snow removal equipment

Perimeter fencing

Snow removal equipment

Taxiway C and aircraft rescue and firefighting access improvements

Decision Date: April 9, 2007.

FOR FURTHER INFORMATION CONTACT. Thomas Schauer, Bismarck Airports District Office, (701) 323-7383.

Public Agency: Hillsborough County Aviation Authority, Tampa, Florida.

Application Number: 07-07-C-00-TPA.

Application Type: Impose and use a PFC.

PFC Level: $4.50.

Total PFC Revenue Approved in This Decision: $98,840,500.

Earliest Charge Effective Date: September 1, 2013.

Estimated Charge Expiration Date: September 1, 2015.

Class of Air Carriers not Required to Collect PFC's: On-demand air taxi/commercial operators.

Determination: Approved. Based on information submitted in the public agency's application, the FAA has determined that the proposed class accounts for less than 1 percent of the total annual enplanements at Tampa International Airport.

Brief Description of Projects Approved for Collection and Use at a $4.50 PFC Level:

Airside D demolition and apron reconstruction.

Construct north portion of taxiway V and reconstruct portion of W.

Baggage claim expansion and capacity enhancements.

Property acquisition for runway 17/35 clear zone.

Brief Description of Projects Approved for Collection and Use at a $3.00 PFC Level: Terminal recirculation flyover bridge to George Bean Parkway.

Airside F shuttle system rehabilitation and car replacement

Monorail system controls replacement and upgrade

Airport support area environmental remediation

Decision Date: April 25, 2007.

FOR FURTHER INFORMATION CONTACT: Susan Moore, Orlando Airports District Office, (407) 812-6331, extension 120.

Amendments to PFC Approvals
Amendment No. city, state | Amendment approved date | Original approved net PFC revenue | Amended approved net PFC revenue | Original estimated charge exp. date | Amended estimated charge exp. date
94-02-C-02-INL International Falls, MN | 03/29/07 | $280,066 | $280,066 | 07/01/00 | 07/01/00
02-08-C-01-JAC Jackson, WY | 04/02/07 | 953,023 | 1,186,158 | 11/01/04 | 04/01/04
04-09-C-01-JAC Jackson, WY | 04/02/07 | 1,814,693 | 2,208,596 | 03/01/08 | 01/01/07
94-01-C-09-CVG Covington, KY | 04/06/07 | 35,796,000 | 35,797,000 | 04/01/96 | 04/01/96
98-03-C-08-CVG Covington, KY | 04/06/07 | 24,852,000 | 24,843,175 | 08/01/99 | 08/01/99
98-04-C-07-CVG Covington, KY | 04/06/07 | 33,061,000 | 33,057,380 | 08/01/00 | 08/01/00
99-05-C-07-CVG Covington, KY | 04/06/07 | 18,304,000 | 18,220,829 | 02/01/02 | 02/01/02
01-07-C-04-CVG Covington, KY | 04/06/07 | 39,511,000 | 39,517,000 | 02/01/04 | 02/01/04
02-08-C-03-CVG Covington, KY | 04/11/07 | 268,062,000 | 268,108,000 | 12/01/11 | 11/01/11
05-09-C-03-CVG Covington, KY | 04/11/07 | 45,571,000 | 43,794,000 | 03/01/13 | 12/01/12
06-10-C-01-CVG Covington, KY | 04/11/07 | 30,821,000 | 33,010,000 | 01/01/15 | 09/01/14
01-12-C-07-ORD Chicago, IL | 04/13/07 | 1,082,312,097 | 1,304,612,097 | 06/01/13 | 06/01/13
97-04-C-01-RFD Rockford, IL | 04/23/07 | 7,066,659 | 7,066,659 | 08/01/18 | 05/01/14
04-06-C-01-PSC Pasco, WA | 04/23/07 | 4,598,735 | 8,599,230 | 01/01/12 | 04/01/16
99-01-C-02-HGR Hagerstown, MD | 04/25/07 | 308,867 | 308,817 | 01/01/04 | 01/01/04
Note: The amendments denoted by an asterisk (*) include a change to the PFC level changed from $3.00 per enplaned passenger to $4.50 per enplaned passenger. For Rockford, IL, this change is effective on June 1, 2007.

Issued in Washington, DC on May 8, 2007.
Joe Hebert,
Manager, Financial Analysis and Passenger Facility Charge Branch.

[FR Doc. 07-2374 Filed 5-14-07; 8:45 am]

BILLING CODE 4910-13-M